FEDERAL COMMUNICATIONS COMMISSION

47 CFR Part 73

[DA 05-1985; MB Docket No. 05-107; RM-11199]

Radio Broadcasting Services; Islamorada, Marathon, and Sugarloaf Key, FL

AGENCY: Federal Communications Commission.

ACTION: Final rule.

SUMMARY: The Audio Division, at the request of LSM Radio Partners LLC, licensee of Station WWWK(FM), Channel 288C2, Marathon, Florida, allots Channel 289A to Sugarloaf Key, Florida, as its first local service. See 70 FR 17382, published April 6, 2005. To accommodate this allotment, this document also reallots Channel 288C2 from Marathon to Islamorada, Florida, as its second local service and modify the Station WWWK license accordingly. Channel 289A can be allotted to Sugarloaf Key in conformity with the Commission's rules, provided there is a site restriction of 3.6 kilometers (2.2 miles) southwest at coordinates 24-37-30 NL and 81-32-30 WL. Channel 288C2 can be reallotted to Islamorada, consistent with the minimum distance separation requirements of Section 73.207(b) of the Commission's rules, provided there is a site restriction of 15.5 kilometers (9.6 miles) northeast at coordinates 25-01-23 NL and 80-30-06 WL.

DATES: Effective August 29, 2005.

ADDRESSES: Federal Communications Commission, 445 Twelfth Street, SW., Washington, DC 20554.

FOR FURTHER INFORMATION CONTACT: Rolanda F. Smith, Media Bureau, (202) 418-2180.

SUPPLEMENTARY INFORMATION: This is a summary of the Commission's Report and Order, MB Docket No. 05-107, adopted July 13, 2005, and released July 15, 2005. The full text of this Commission decision is available for inspection and copying during normal business hours in the Commission's Reference Center 445 Twelfth Street, SW., Washington, DC 20554. The complete text of this decision may also be purchased from the Commission's duplicating contractor, Best Copy and Printing, Inc., 445 12th Street, SW., Room CY-B402, Washington, DC, 20054, telephone 1-800-378-3160 or http://www.BCPIWEB.com. The Commission will send a copy of the Report and Order in this proceeding in a report to be sent to Congress and the Government Accountability Office pursuant to the Congressional Review Act, see 5 U.S.C. 801(a)(1)(A).

List of Subjects in 47 CFR Part 73

Radio, Radio broadcasting.

PART 73—RADIO BROADCAST SERVICES

1. The authority citation for part 73 continues to read as follows:

Authority: 47 U.S.C. 154, 303, 334 and 336.

§ 73.202 [Amended]

2. Section 73.202(b), the Table of FM Allotments under Florida, is amended by adding Channel 288C2 at Islamorada, removing Channel 288C2 at Marathon, and by adding Sugarloaf Key, Channel 289A.

Federal Communications Commission.
John A. Karousos,
Assistant Chief, Audio Division, Media Bureau.

[FR Doc. 05-14958 Filed 8-2-05; 8:45 am]

BILLING CODE 6712-01-P